DEPARTMENT OF TRANSPORTATION

Federal Transit Administration

Federal Highway Administration

Amendment to Supplemental Draft Environmental Impact Statement for the South Corridor Portion of the South/North Transit Corridor Project in the Portland, OR Metropolitan Area (Affects the Downtown Portland Segment Only)

AGENCY: Federal Transit Administration (FTA) and Federal Highway Administration (FHWA), DOT.

ACTION: Notice of Intent (NOI) to prepare an Amended Supplemental Draft Environmental Impact Statement.

SUMMARY: The FTA and the FHWA, in cooperation with Portland Metro and Tri-County Metropolitan Transportation District of Oregon (TriMet), (hereinafter “agencies”) published a Supplemental Draft Environmental Impact Statement (hereinafter “SDEIS”) in accordance with the National Environmental Policy Act (hereinafter “NEPA”) in December 2002 for transit improvements in the South/North Transit Corridor (hereinafter the “South Corridor Project”) of the Portland, Oregon metropolitan region. The North Corridor Interstate MAX FEIS was published and the project is under construction. Conditions have changed since the South/North DEIS and the South Corridor Project SDEIS were published. The agencies now intend to prepare an amendment to that SDEIS for transit improvements in the downtown Portland segment only.

The purpose of this new Notice of Intent is to re-notify interested parties of the intent to prepare an Amendment to the SDEIS (hereinafter referred to as “ASDEIS”) and invite participation in the study. This study will focus on the impacts of adding the downtown Portland Transit Mall LRT alignment to the I-205 Light Rail Transit Project, a part of the South Corridor Project. The I-205 Light Rail Transit Project proposes to implement a major high capacity transit improvement in the South Corridor part of the South/North Corridor, that maintains livability in the metropolitan region, supports land use goals, optimizes the transportation system, is environmentally sensitive, reflects community values and is fiscally responsive. Three transit alternatives (described below) will be evaluated in the ASDEIS.

Meeting Dates: Agency Coordination Meeting: an agency coordination meeting will be held on April 22 at 1 pm, at the Portland Building Room C, 1120 SW Fifth Avenue, Portland, Oregon. Public Information Meeting: a public information meeting will be held on April 22 from 4 to 7 pm at the Portland Building Room C, 1120 SW Fifth Avenue, Portland, Oregon. The Portland Building is accessible to persons with disabilities. Any individual with a disability who requires special assistance, such as a sign language interpreter, should contact Kristin Hull at (503) 797-1864, at least 48-hours in advance of the meeting in order for Metro to make necessary arrangements.

FOR FURTHER INFORMATION CONTACT: Agency Coordination meeting: contact Sharon Kelly, Metro EIS Manager at (503) 797-1753 or (e-mail) KellyS@Metro.dst.or.us, Rebecca Reyes-Alicea, FTA Community Planner at (206) 220-4464 or (e-mail) rebecca.reyes-alicea@fta.dot.gov, Elton Chang, FHWA Environmental Engineer at (503) 587-4710 or elton.chang@fhwa.dot.gov. Public Information meeting: contact Kristin Hull, Metro Public Involvement Coordinator at (503) 797-1864 or (e-mail) Hull@Metro.dst.or.us. Written Comments should be sent to Sharon Kelly, South Corridor Project, Metro, 600 NE Grand Avenue, Portland, OR 97232. Additional information on the South Corridor Project can also be found on the Metro Web site at: http://www.metro-region.org.

SUPPLEMENTARY INFORMATION:

I. Notice of Intent

This new NOI to prepare an ASDEIS is being published at this time to re-notice interested parties due to the changes that have occurred since the initial NOI (October 1993), publication of the South/North DEIS (February 1998), publication of the North Corridor Interstate MAX Light Rail Project FEIS (October 1999), and publication of the South Corridor Project SDEIS (December 2002). The project proponents are re-examining the downtown Portland Mall Alignment in the downtown Portland segment of the South Corridor. The FHWA and the FTA are Federal Co-Lead agencies. Because the study is primarily a transit study, FTA regulations and guidance will be used for the analysis and preparation of the ASDEIS.

II. Study Area

The South Corridor generally encompasses the southeast quadrant of the Portland, Oregon metropolitan area, including downtown Portland, Southeast Portland neighborhoods, the City of Milwaukie, the City of Gladstone, the City of Oregon City and urban unincorporated Clackamas County (east of the Willamette River). The focus of this supplemental study will be in the downtown Portland area.

III. Alternatives

Three Alternatives will be evaluated in the SDEIS. The No-Build Alternative will provide the basis for comparison of the build alternative. The No-Build Alternative includes the existing transportation system plus multi-modal transportation improvements that would be constructed under the Regional Transportation Plan Financially Constrained Transportation Network. The I-205 Light Rail Alternative with the Cross Mall includes 6.5 miles of new light rail transit connecting to the existing light rail system at Gateway and extending south along I-205 to the Clackamas Town Center area and then continuing into downtown Portland using the existing Eastside MAX line called the Cross Mall. The I-205 Light Rail Alternative with the Portland Mall includes 6.5 miles of new light rail transit connecting to the existing light rail system at Gateway and extending south along I-205 to the Clackamas Town Center area and, in the north, includes a section continuing into downtown Portland using the Portland Mall Alignment. There is a terminus option at SW Main Street and design option of using Island Stations with this alternative.

IV. Probable Effects

FTA, FHWA, Metro and TriMet will evaluate all significant transportation, environmental, social and economic impacts of the alternatives. Primary issues include: support of state, regional and local land use and transportation plans and policies, cost effective expansion of the transit system, preservation of capacity enhancement options of I-205, neighborhood impacts and environmental sensitivity. The impacts will be evaluated for both the construction period and for the long-term period of operation. Measures to mitigate any significant impact will be developed.

Issued on: March 31, 2003.
Richard Krochalis,
Regional Administrator, Region X, Federal Transit Administration.
Elton Chang,
Environmental Engineer, Oregon Division, Federal Highway Administration.

[FR Doc. 03-8692 Filed 4-9-03; 8:45 am]

BILLING CODE 4910-57-P